DEPARTMENT OF DEFENSE

Defense Acquisition Regulations System

48 CFR Part 219 and Appendix I to Chapter 2

RIN 0750-AH44

Defense Federal Acquisition Regulation Supplement; Extension of Department of Defense Mentor-Protégé Pilot Program (DFARS Case 2011-D050)

AGENCY: Defense Acquisition Regulations System, Department of Defense (DoD).

ACTION: Final rule.

SUMMARY: DoD is issuing a final rule amending the Defense Federal Acquisition Regulation Supplement to extend the date for submittal of applications under the DoD Mentor-Protégé Pilot Program for new mentor-protégé agreements and the date mentors may incur costs and/or receive credit towards fulfilling their small business subcontracting goals through an approved mentor-protégé agreement.

DATES: Effective Date: November 18, 2011.

FOR FURTHER INFORMATION CONTACT: Ms. Lee Renna, telephone 703-602-0764.

SUPPLEMENTARY INFORMATION:

I. Background

This Defense Federal Acquisition Regulation Supplement (DFARS) case implements section 8016 of the National Defense Appropriations Act (NDAA) for Fiscal Year (FY) 2011 (Pub. L. 112-10). The NDAA for FY 2011 was signed into law on April 15, 2011. Section 8016 amends the DoD Mentor-Protégé Pilot Program (DoD MPP), section 831 of Public Law 110-510 (10 U.S.C. 2302, note), by changing the—

• Acceptance date for new DoD MPP agreements from September 30, 2010, to September 30, 2011; and

• Eligibility date DoD mentors may incur costs for the purposes of receiving cost reimbursement or credit toward attainment of subcontracting goals, from September 30, 2013, to September 30, 2014.

This final rule implements these changes in the corresponding DFARS regulations: 219.704(b) and (d); and I-103(a) and (b).

DoD is issuing a final rule because this rule does not have a significant effect beyond the internal operating procedures of DoD and does not have a significant cost or administrative impact on contractors or offerors. This final rule merely extends the effective dates for an existing DoD program. These dates have already been extended by law.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

The Regulatory Flexibility Act does not apply to this rule because this final rule does not constitute a significant DFARS revision within the meaning of FAR 1.501-1 and 41 U.S.C. 1707 and does not require publication for public comment.

IV. Paperwork Reduction Act

The rule does not contain any information collection requirements that require the approval of the Office of Management and Budget under the Paperwork Reduction Act (44 U.S.C. chapter 35).

List of Subjects in 48 CFR Part 219 and Appendix I to Chapter 2

Government procurement.

Mary Overstreet,
Editor, Defense Acquisition Regulations System.

Therefore, 48 CFR part 219 and 48 CFR chapter 2 appendix I are amended as follows:

1. The authority citation for 48 CFR part 219 and Appendix I continue to read as follows:

Authority: 41 U.S.C. 1303 and 48 CFR chapter 1.

PART 219—SMALL BUSINESS PROGRAMS

219.7104 [Amended]

2. Section 219.7104 is amended—

(a) In paragraph (b), by removing the year “2013” and adding in its place “2014”; and

(b) In paragraph (d), by removing the year “2013” and adding in its place “2014”.

APPENDIX I—POLICY AND PROCEDURES FOR THE DOD PILOT MENTOR-PROTÉGÉ PROGRAM

3. Section I-103 is amended—

(a) In paragraph (a) by removing the year “2010” and adding in its place “2011”; and

(b) In paragraph (b) introductory text by removing the year “2013” and adding in its place “2014”.

[FR Doc. 2011-29897 Filed 11-17-11; 8:45 am]

BILLING CODE 5001-06-P